Title 3—

The President

Proclamation 7640 of January 15, 2003

Religious Freedom Day, 2003

By the President of the United States of America

A Proclamation

Each year on January 16, we celebrate Religious Freedom Day in commemoration of the passage of the Virginia Statute for Religious Freedom by the Virginia General Assembly, which occurred on this day in 1786. Drafted by Thomas Jefferson, this historic law provided the inspiration and the framework for the religious freedom clauses in the First Amendment to the United States Constitution.

The religious freedom provisions of our Constitution—the Establishment Clause and the Free Exercise Clause—open the first of the ten amendments that make up the Bill of Rights. Because the Framers placed the guarantee of religious freedom before other cherished rights, religious liberty in America is often called the first freedom. The right to have religious beliefs and to freely practice such beliefs are among the most fundamental freedoms we possess. James Madison once said that “the Religion then of every man must be left to the conviction and conscience of every man; and it is the right of every man to exercise it as these may dictate. This right is in its nature an unalienable right.”

Our Founding Fathers recognized that religious freedom is a right we must protect with great vigilance. We must continue our efforts to uphold justice and tolerance and to oppose prejudice; and we must be resolved to countering any means that infringe on religious freedom.

Religious faith has inspired many of our fellow citizens to help build a better Nation. In America today, people of faith continue to wage a determined campaign to meet needs and fight suffering. Through the efforts of the White House Office of Faith-Based and Community Initiatives, my Administration has been working to ensure that faith-inspired organizations do not face discrimination simply because of their religious orientation. I recently signed an Executive Order to ensure equal treatment for faith-based charities that are offering hope to those in need.

As we celebrate the freedom of faith in America, we also recognize that there are many people around the world who do not enjoy such freedoms. The right to believe and express one's beliefs in words and practice is a right that should belong to all people. Through the Department of State's Office of International Religious Freedom, my Administration has been working to call attention to religious persecution and to encourage our allies, friends, and trading partners to provide and protect this fundamental human right for all people around the world. By working together to secure religious freedom around the world, we can create a better future for people of all faiths.

NOW, THEREFORE, I, GEORGE W. BUSH, President of the United States of America, by virtue of the authority vested in me by the Constitution and laws of the United States, do hereby proclaim January 16, 2003, as Religious Freedom Day. I encourage all Americans to reflect on the great blessing of religious freedom and to endeavor to preserve this freedom for future generations, and to commemorate this day through appropriate events and activities in homes, schools, and places of worship.

IN WITNESS WHEREOF, I have hereunto set my hand this fifteenth day of January, in the year of our Lord two thousand three, and of the Independence of the United States of America the two hundred and twenty-seventh.

B

[FR Doc. 03-1532

Filed 1-21-03; 8:45 am]

Billing code 3195-01-P